DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Union Pacific Railroad Company

(Docket Number FRA-2008-0166)

The Union Pacific Railroad Company (UP) seeks a waiver of compliance from certain provisions of 49 CFR part 218, Railroad Operating Practices. Specifically, UP is requesting a waiver of Blue Signal Requirements as prescribed in 49 CFR 218.25 Workers on a main track, in Kansas City, KS and Kansas City, MO. These tracks are in the middle of the Kansas City facilities and are used for functions normally performed on yard tracks. Trains passing through the Kansas City Terminal stop for fuel, locomotive inspection, or adding or removing power from the train. To perform this work on the main track, UP must provide blue signal protection under 49 CFR 218.25. This request is for the following track locations:

• Main 1 and Main 2 between Manchester and Troost. (MX279-MX281);

• Main 1 and Main 2 at 18th St. Between KX004 and KX006;

• Mainline at 10th St. (KX287-KX289).

UP is requesting flexibility to treat these main tracks at the Kansas City facilities as tracks other than main tracks so they can have the option of protecting its employees working on, under, or between rolling equipment in accordance with § 218.25 Workers on a main track, or § 218.27 Workers on track other than main track, or a combination of both. UP believes that the safest and most efficient method of protecting its employees in the Kansas City facilities is through the use of a combination of blue signal protection and remotely controlled switches. UP believes that this request is similar to a waiver originally granted to the SP at El Paso, TX, and renewed to the UP under Docket Number FRA-2000-7669. UP states they have operated under the requirements of that waiver without any adverse effect on safety of operations and would like to have the same conditions for this request.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0166) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on January 30, 2009.
Grady C. Cothen, Jr.,
Deputy Associate Administrator for Safety Standards and Program Development.

[FR Doc. E9-2388 Filed 2-3-09; 8:45 am]

BILLING CODE 4910-06-P